DEPARTMENT OF HEALTH AND HUMAN SERVICES

Office of the Secretary

[Document Identifier HHS-OS-19158-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before May 28, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-19158-60D for reference.

Information Collection Request Title: Doing It For Ourselves (DIFO) Program.

Abstract: The Office of Women's Health (OWH) and the Department of Health and Human Services (HHS) Coordinating Committee on Lesbian, Gay, Bi-sexual and Transgender (LGBT) Issues have prioritized the collection of health data on LGBT populations. In response, OWH funded an initiative to identify and test effective and innovative ways of reducing obesity in lesbian and bisexual women. The DIFO intervention has been developed in San Francisco to address what is known about local LB women's community norms, common barriers to health, patterns of physical and mental health access, and preferences for health services and health outcomes. The evaluation of the DIFO program will address the following research question: Does an intervention based on an ecological model of LB women's health result in improved health, as defined by: quality of life, decreased weight, improved nutrition, and increased physical activity? The project is scheduled for one year.

Need and Proposed Use of the Information: Addresses barriers to health for the LB community, and promotes overall health and wellbeing. The intervention will incorporate community-identified weight loss/risk reduction needs of this population. Following the completion of the surveys and interventions, collected data will be used to develop increased health-related services and activities for LB women, web-based tools and materials for LB women, increased community recreation resources inclusive of sexual minority women.

Likely Respondents: Lesbian and bi-sexual women forty years of age and older.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Forms | Number of respondents | Number of responses per respondent | Average burden hours per response | Total burden hours
Screening Tool | 300 | 1 | 5/60 | 25
Informed Consent Form | 256 | 1 | 5/60 | 21
Baseline Survey | 128 | 1 | 5/60 | 11
Baseline Comparison Survey | 128 | 1 | 5/60 | 11
9 Month Follow-up Survey | 128 | 1 | 5/60 | 11
9- Month Follow-Up Comparison Survey | 128 | 1 | 5/60 | 11
End-of-Program Focus Group | 128 | 1 | 1 | 128
Total |  |  |  | 218

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-07144 Filed 3-27-13; 8:45 am]

BILLING CODE 4150-33-P